NATIONAL SCIENCE FOUNDATION

Advisory Committee for Mathematical and Physical Sciences; Notice of Meeting

In accordance with Federal Advisory Committee Act (Public Law 92-463, as amended), the National Science Foundation announces the following meeting:

Name: Directorate for Mathematical and Physical Sciences, Advisory Committee (MPSAC), #66.

Date/Time: November 3, 2004, 8 a.m.-6 p.m.; November 4, 2004, 8 a.m.-6 p.m.; November 5, 2004, 8 a.m.-3 p.m.

Place: National Science Foundation, 4201 Wilson Boulevard, Arlington, VA 22230, Room 375.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda:

Briefing to new members about NSF and Directorate.

Update on current status of Directorate.

Overview of Facilities.

Meeting with Education and Human Resources Advisory Committee.

Report on CyberScience and Theory Workshops.

Meeting of MPSAC with Divisions within MPS Directorate.

Discussion of MPS Long-term Planning Activities.

Summary Minutes: May be obtained from the contact person listed above.

Dated: September 28, 2004.
Susanne E. Bolton,
Committee Management Officer.

[FR Doc. 04-22223 Filed 10-1-04; 8:45 am]

BILLING CODE 7555-01-M